DEPARTMENT OF TRANSPORTATION

National Highway Traffic Safety Administration

[Docket No. NHTSA 2000-7616; Notice 2]

Piaggio & c., S.p.A.; Grant of Application for Temporary Exemption From Federal Motor Vehicle Safety Standard No. 123

This notice grants the application by Piaggo & c., S.p.A. (“Piaggio”), an Italian corporation, of Pontedera, Italy, for a temporary exemption of two years from a requirement of S5.2.1 (Table 1) of Federal Motor Vehicle Safety Standard No. 123 Motorcycle Controls and Displays. The basis of the request was that “compliance with the standard would prevent the manufacturer from selling a motor vehicle with an overall safety level at least equal to the overall safety level of nonexempt vehicles,” 49 U.S.C. 30113(b)(3)(B)(iv).

Notice of receipt of the application was published on July 17, 2000, and an opportunity afforded for comment (65 FR 44093).

Piaggio applied on behalf of its Vespa ET4 (125 and 150 cc) motor scooters. The scooters are defined as “motorcycles” for purposes of compliance with the Federal motor vehicle safety standards. If a motorcycle is produced with rear wheel brakes, S5.2.1 of Standard No. 123 requires that the brakes be operable through the right foot control (the left handlebar is permissible only for a motor driven cycle (Item 11, Table 1), i.e., a motorcycle with a motor that produces 5 brake horsepower or less).

Piaggio petitioned that it be allowed to use the left handlebar as the control for the rear brakes of its Vespa ET4, which is a motorcycle and not a motor driven cycle. The model features an automatic clutch that eliminates the left-hand clutch lever as well as any left-foot gearshift lever. According to Piaggio, “the motor scooter is therefore very similar to a bicycle, both in ergonomic stance and operation.” The model will feature a hand-actuated lever on the left handlebar that will actuate the rear brake, and a hand-actuated lever on the right handlebar that will control the front brake.

Piaggio argued that the overall level of safety of the scooters equals or exceeds that of a motorcycle that complies with the brake control location requirement of Standard No. 123. The Vespa ET4 is equipped with disc brakes on the front wheels, and “easily meets and exceeds all the performance requirements of FMVSS 122” for motorcycle brake systems. The vehicle meets the braking performance requirements of ECE 93/14 as well.

Piaggio averred that no other country in Europe, Japan, or elsewhere in Asia requires scooters to be equipped with a right foot-operated brake control. Absent an exemption, then, Piaggio will be unable to sell the Vespa ET4 in the United States. Piaggio “is in the process of introducing a complete modification of the Vespa braking system to conform with FMVSS 123,” and intends to complete its development work during the two-year period that its exemption would be in effect.

Piaggio will not sell more than 2,500 scooters a year while an exemption is in effect. The exemption would cover Model Year 2001 and 2002 vehicles. The company believes that an exemption would be consistent with the objectives of traffic safety because the vehicle provides “for much more natural braking response by the rider than non-exempt vehicles.” Extended use in Europe and the rest of the world has not resulted in either consumer groups or governmental authorities raising any safety concerns. The exemption would also be in the public interest because it is “environmentally clean and fuel efficient * * * convenient urban transportation.”

We received five comments, all supporting granting Piaggo's application.

Piaggio's request is not a new one, as we have exempted three other motorcycle manufacturers from S5.2.1 (Aprilia, 64 FR 44262, re-issued at 65 FR 1225; Vectrix, 64 FR 45585; and Italjet, 64 FR 58127). Our concern about a lack of standardization of the rear brake control for scooter-type vehicles was addressed by Aprilia in its petition which included a report on “Motorscooter Braking Control Study,” available for examination in Docket No. NHTSA-99-4357. This report indicated that test subjects' brake reaction times using a vehicle configured like Piaggio's were approximately 20% quicker than their reaction times on the conventional motorcycle. We interpreted the report as indicating that a rider's braking response is not likely to be degraded by the different placement of brake controls, and cited it in granting the similar petition by Vectrix. In Piaggio's case, the favorable comments appear to sustain our previous conclusions. We intend to initiate rulemaking to amend Standard No. 123 to address the location of the brake control on vehicles with automatic transmissions, such as the petitioner manufactures.

With respect to the public interest and the objectives of motor vehicle safety, the overall level of safety, as Piaggio argues, appears at least equal to that of vehicles certified to comply with Standard No. 123. We note that the vehicle meets the braking performance requirements of ECE 93/14 as well. The comments make convincing arguments that an exemption would be in the public interest by making available a compact, fuel-efficient vehicle for urban use that would not otherwise be available without an exemption.

In consideration of the foregoing, we hereby find that Piaggio has met its burden of persuasion that, to require compliance with Standard No. 123 would prevent the manufacturer from selling a motor vehicle with an overall level of safety at least equal to the overall safety level of nonexempt vehicles. We further find that a temporary exemption is in the public interest and consistent with the objectives of motor vehicle safety. Accordingly, Piaggio & c. S.p.A. is hereby granted NHTSA Temporary Exemption No. EX2000-3 from the requirements of item 11, Column 2, Table 1 of 49 CFR 571.123 Standard No. 123 Motorcycle Controls and Displays, that the rear wheel brakes be operable through the right foot control. This exemption applies only to the Vespa ET4 and will expire on October 1, 2002.

Issued on October 23, 2000.
Sue Bailey,
Administrator.

[FR Doc. 00-27724 Filed 10-27-00; 8:45 am]

BILLING CODE 4910-59-P